LIBRARY OF CONGRESS

Copyright Royalty Board

[Docket No. 15-0008-CRB-SATR (2015-19)]

Determination of Royalty Rates for Secondary Transmissions of Broadcasts by Satellite Carriers and Distributors: Withdrawal

AGENCY: Copyright Royalty Board, Library of Congress.

ACTION: Notice of commencement of proceeding and solicitation of petitions to participate; withdrawal.

SUMMARY: The announcement of the commencement of a proceeding published on March 30, 2015, 80 FR 16702 is withdrawn.

DATES: Effective Date: The commencement announcement published on March 30, 2015, is withdrawn April 22, 2015.

ADDRESSES: This notice is also posted on the agency's Web site (www.loc.gov/crb).

FOR FURTHER INFORMATION CONTACT: Kimberly Whittle, Attorney Advisor, by telephone at (202) 707-7658 or email at crb@loc.gov.

SUPPLEMENTARY INFORMATION: The Copyright Royalty Judges have decided to withdraw the commencement of a proceeding based on a reconsideration of the congressional intent behind the enactment of the STELA Reauthorization Act of 2014 Public Law 113-200. The provisions of the reauthorization act extend the satellite carrier statutory license under section 119 of the Copyright Act (Act) to December 31, 2019. See 17 U.S.C. 119(h). Despite some conflicting statutory language in the new law, the Judges conclude that the rates in effect on December 31, 2014, which were established by a voluntary agreement among certain satellite carriers and copyright owners and which are codified at 37 CFR 386.2(b), continue in effect, subject only to the annual royalty fee adjustment provision found at 17 U.S.C. 119(c)(2). See section 119 (c)(1)(E) of the Copyright Act. 17 U.S.C. 119(c)(1)(e) (2014).¹ A proceeding to determine rates for the statutory license is not necessary.

¹ In a subsequent notice, the Judges will announce the adjusted satellite rate for 2015.

Dated: April 16, 2015.
Suzanne M. Barnett,
Chief Copyright Royalty Judges.

[FR Doc. 2015-09281 Filed 4-21-15; 8:45 am]

BILLING CODE 1410-72-P